NUCLEAR REGULATORY COMMISSION

[Docket No. 50-027, NRC-2011-0083]

Washington State University; Notice of Issuance of Renewed Facility Operating License No. R-76

AGENCY: Nuclear Regulatory Commission.

ACTION: Notice of issuance of renewed facility operating license No. R-76.

ADDRESSES: You can access publicly available documents related to this notice using the following methods:

NRC's Public Document Room (PDR): The public may examine and have copied for a fee, publicly available documents at the NRC's PDR, Room O1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov. For details with respect to the application for renewal, see the licensee's letter dated June 24, 2002 (ADAMS Accession No. ML092390202), as supplemented on April 7 (two letters) (ADAMS Accession Nos. ML101031097 and ML101030215), May 3 (ADAMS Accession No. ML101310231), May 24 (ADAMS Accession No. ML101530139), June 30 (ADAMS Accession No. ML101890720), July 30 (ADAMS Accession No. 102230406), August 4 (ADAMS Accession No. ML 102230415), August 10 (ADAMS Accession No. ML102300722), August 17 (ADAMS Accession No. ML102360194), and September 22, 2010 (ADAMS Accession No. ML102780440), and March 23 (ADAMS Accession No. ML110900059), July 15 (ADAMS Accession No. ML11202A095), July 18, (ADAMS Accession No. ML11207A068), August, (ADAMS Accession No. ML11221A162), and August 26, 2011 (ADAMS Accession No. ML112430148).

FOR FURTHER INFORMATION CONTACT: Linh N. Tran, Senior Project Manager, Research and Test Reactor Licensing Branch, Division of Policy and Rulemaking, Office of Nuclear Reactor Regulation, U.S. Nuclear Regulatory Commission, Rockville, MD 20852. Telephone: 301-415-4103; fax number: (301) 415-3031; e-mail: Lihn.Tran@nrc.gov.

SUPPLEMENTARY INFORMATION: The U.S. Nuclear Regulatory Commission (NRC, the Commission) has issued renewed Facility Operating License No. R-76, held by the Washington State University (WSU, the licensee), which authorizes continued operation of the WSU Modified TRIGA Nuclear Reactor, located in Pullman, Whitman County, Washington. The WSU Modified TRIGA Nuclear Reactor is a pool-type, natural convection, light-water cooled, and shielded reactor that was converted to the use of TRIGA (Training, Research, Isotope Production, General Atomics) fuel. The WSU NRCR is licensed to operate at a steady-state power level of 1 megawatt thermal power and pulse mode operation with a peak pulse power of 2,000 megawatt. The renewed Facility Operating License No. R-76 will expire 20 years from its date of issuance.

The renewed facility operating license complies with the standards and requirements of the Atomic Energy Act of 1954, as amended (the Act), and the Commission's rules and regulations. The Commission has made appropriate findings as required by the Act and the Commission's regulations in Title 10, Chapter 1, “Nuclear Regulatory Commission,” of the Code of Federal Regulations (10 CFR), and sets forth those findings in the renewed facility operating license. The agency afforded an opportunity for hearing in the Notice of Opportunity for Hearing published in the Federal Register on June 28, 2010 (75 FR 36717-36721). The NRC received no request for a hearing or petition for leave to intervene following the notice.

The NRC staff prepared a safety evaluation report for the renewal of Facility Operating License No. R-76 and concluded, based on that evaluation, the licensee can continue to operate the facility without endangering the health and safety of the public. The NRC staff also prepared an Environmental Assessment and Finding of No Significant Impact for the renewal of the facility operating license, noticed in the Federal Register on April 19, 2011 (76 FR 2192821931), and concluded that renewal of the facility operating license will not have a significant impact on the quality of the human environment.

Dated at Rockville, Maryland, this 30th day of September, 2011.
For The Nuclear Regulatory Commission.
Patricia A. Silva,
Acting Chief, Research and Test Reactors Licensing Branch, Division of Policy and Rulemaking, Office of Nuclear Reactor Regulation.

[FR Doc. 2011-26180 Filed 10-7-11; 8:45 am]

BILLING CODE 7590-01-P